SMALL BUSINESS ADMINISTRATION

[Declaration of Disaster #3531]

State of Texas (Amendment #2)

In accordance with notices received from the Department of Homeland Security—Federal Emergency Management Agency, effective July 28, 2003, the above numbered declaration is hereby amended to establish the incident period for this disaster as beginning on July 15, 2003 and continuing through July 28, 2003. This declaration is also amended to include DeWitt, Frio, Karnes, Live Oak and San Patricio counties as disaster areas due to damages caused by Hurricane Claudette occurring on July 15, 2003 and continuing through July 28, 2003.

In addition, applications for economic injury loans from small businesses located in the contiguous counties of Atascosa, Dimmit, Duval, Gonzales, Jim Wells, LaSalle, McMullen, Medina, Nueces, Uvalde, Wilson and Zavala in the State of Texas may be filed until the specified date at the previously designated location. All other counties contiguous to the above named primary counties have been previously declared.

All other information remains the same, i.e., the deadline for filing applications for physical damage is September 16, 2003, and for economic injury the deadline is April 19, 2004.

(Catalog of Federal Domestic Assistance Program Nos. 59002 and 59008).
Dated: July 30, 2003.
Herbert L. Mitchell,
Associate Administrator for Disaster Assistance.

[FR Doc. 03-19884 Filed 8-4-03; 8:45 am]

BILLING CODE 8025-01-P